DEPARTMENT OF STATE

[Delegation of Authority No. 553]

Delegation of Authority—Authorities of the Secretary

By virtue of the authority vested in me as Secretary of State by the laws of the United States, including 22 U.S.C. 2651a, I hereby delegate to the Under Secretary for Political Affairs and the Under Secretary for Management, to the extent authorized by law, all authorities and functions vested in the Secretary of State or the head of agency by any act, order, determination, delegation of authority, regulation, or executive order, now or hereafter issued. This delegation includes all authorities and functions that have been or may be delegated or redelegated to other Department officials but does not repeal delegations to such officials.

Provided that, this delegation shall apply only when the Secretary, the Deputy Secretary, and the Deputy Secretary for Management and Resources are travelling, on leave, unavailable, or when the Secretary or either Deputy Secretary requests that one of these Under Secretaries exercise such authorities and functions.

The Secretary of State, the Deputy Secretary of State and the Deputy Secretary of State for Management and Resources may exercise any function or authority delegated by this delegation. This delegation of authority does not rescind or modify any other delegation of authority.

This document shall be published in the Federal Register.

Dated: March 29, 2024.
Antony J. Blinken,
Secretary of State.

[FR Doc. 2024-07546 Filed 4-9-24; 8:45 am]

BILLING CODE 4710-08-P